DEPARTMENT OF COMMERCE

Foreign-Trade Zones Board

[B-84-2014]

Foreign-Trade Zone (FTZ) 82—Mobile, Alabama; Notification of Proposed Production Activity; MH Wirth, Inc. (Offshore Drilling Riser Systems); Theodore, Alabama

The City of Mobile, Alabama, grantee of FTZ 82, submitted a notification of proposed production activity to the FTZ Board on behalf of MH Wirth, Inc. (MHWI), located in Theodore, Alabama. The notification conforming to the requirements of the regulations of the FTZ Board (15 CFR 400.22) was received on November 3, 2014.

The MHWI facility is located within Site 7 of FTZ 82. The facility is used for the production and repair of offshore drilling riser systems (risers, telescopic joints, test equipment and tools). Pursuant to 15 CFR 400.14(b), FTZ activity would be limited to the specific foreign-status materials and components and specific finished products described in the submitted notification (as described below) and subsequently authorized by the FTZ Board.

Production under FTZ procedures could exempt MHWI from customs duty payments on the foreign status components used in export production. On its domestic sales, MHWI would be able to choose the duty rate during customs entry procedures that applies to offshore drilling risers, telescopic joints, test equipment and tools (free) for the foreign status inputs noted below. Customs duties also could possibly be deferred or reduced on foreign status production equipment.

The components and materials sourced from abroad include: Rubber seals/o-rings/composite sheets; anodes; riser tool elastomers/test plugs/cylinders; riser telescopic joint packers/sleeves; riser fins; Kevlar straps; riser joint piping protectors; fasteners (bolts, screws, nuts, lock washers); riser fin bolt tensioners; hydraulic pipe/receptacles; choke and kill line receptacles; booster receptacles; riser clip connectors; steel pins; welding wire rods; and, paper documents (duty rate ranges from free to 9.0%).

Public comment is invited from interested parties. Submissions shall be addressed to the FTZ Board's Executive Secretary at the address below. The closing period for their receipt is January 5, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: November 17, 2014.
Andrew McGilvray,
Executive Secretary.

[FR Doc. 2014-27777 Filed 11-21-14; 8:45 am]

BILLING CODE 3510-DS-P